DELAWARE RIVER BASIN COMMISSION

Notice of Public Hearing and Business Meeting November 15 and December 13, 2017

Notice is hereby given that the Delaware River Basin Commission will hold a public hearing on Wednesday, November 15, 2017. A business meeting will be held the following month on Wednesday, December 13, 2017. The hearing and meeting are open to the public and will be held at the Washington Crossing Historic Park Visitor Center, 1112 River Road, Washington Crossing, Pennsylvania.

Public Hearing. The public hearing on November 15, 2017 will begin at 1:30 p.m. Hearing items subject to the Commission's review will include draft dockets for withdrawals, discharges, and other water-related projects, as well as a resolution authorizing the Executive Director to enter into an agreement with the University of Maryland for the analysis of ambient water samples from the Delaware Estuary for primary productivity and associated nutrient parameters.

The list of projects scheduled for hearing, including project descriptions, and the text of the proposed resolution will be posted on the Commission's Web site, www.drbc.net, in a long form of this notice at least ten days before the hearing date.

Written comments on matters scheduled for hearing on November 15 will be accepted through 5:00 p.m. on November 20. Time permitting, an opportunity for Open Public Comment will be provided upon the conclusion of Commission business at the December 13 Business Meeting; in accordance with recent format changes, this opportunity will not be offered upon completion of the Public Hearing.

The public is advised to check the Commission's Web site periodically prior to the hearing date, as items scheduled for hearing may be postponed if additional time is deemed necessary to complete the Commission's review, and items may be added up to ten days prior to the hearing date. In reviewing docket descriptions, the public is also asked to be aware that project details commonly change in the course of the Commission's review, which is ongoing.

Public Meeting. The public business meeting on December 13, 2017 will begin at 10:30 a.m. and will include: Adoption of the Minutes of the Commission's September 13, 2017 Business Meeting, announcements of upcoming meetings and events, a report on hydrologic conditions, reports by the Executive Director and the Commission's General Counsel, and consideration of any items for which a hearing has been completed or is not required. The latter are expected to include a resolution authorizing the Executive Director to execute an agreement for the preparation of an actuarial evaluation of the Commission's “Other Post-Employment Benefit” (“OPEB”) obligations, in accordance with Government Accounting Standards Board Statement No. 75 (“GASB 75”).

After all scheduled business has been completed and as time allows, the Business Meeting will also include up to one hour of Open Public Comment.

There will be no opportunity for additional public comment for the record at the December 13 Business Meeting on items for which a hearing was completed on November 15 or a previous date. Commission consideration on December 13 of items for which the public hearing is closed may result in approval of the item (by docket or resolution) as proposed, approval with changes, denial, or deferral. When the Commissioners defer an action, they may announce an additional period for written comment on the item, with or without an additional hearing date, or they may take additional time to consider the input they have already received without requesting further public input. Any deferred items will be considered for action at a public meeting of the Commission on a future date.

Advance Sign-Up for Oral Comment. Individuals who wish to comment on the record during the public hearing on November 15 or to address the Commissioners informally during the Open Public Comment portion of the meeting on December 13 as time allows, are asked to sign-up in advance through EventBrite, the online registration process recently introduced by the Commission. Links to EventBrite for the Public Hearing and the Business Meeting are available at drbc.net. For assistance, please contact Ms. Paula Schmitt of the Commission staff, at paula.schmitt@drbc.nj.gov.

Addresses for Written Comment. Written comment on items scheduled for hearing may be made through SmartComment, the Web-based comment system recently introduced by the Commission, a link to which is posted at drbc.net. Although use of SmartComment is strongly preferred, comments may also be delivered by hand at the public hearing; or by hand, U.S. Mail or private carrier to Commission Secretary, P.O. Box 7360, 25 Cosey Road, West Trenton, NJ 08628. For assistance, please contact Paula Schmitt at paula.schmitt@drbc.nj.gov.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Additional Information, Contacts. Additional public records relating to hearing items may be examined at the Commission's offices by appointment by contacting Carol Adamovic, 609-883-9500, ext. 249. For other questions concerning hearing items, please contact Judith Scharite, Project Review Section assistant at 609-883-9500, ext. 216.

Dated: October 27, 2017.
Pamela M. Bush,
Commission Secretary and Assistant General Counsel.

[FR Doc. 2017-24011 Filed 11-2-17; 8:45 am]

BILLING CODE 6360-01-P